DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by May 27, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

Applicant: Zoological Society of San Diego, San Diego, California, PRT-070217.

The applicant requests a permit to export to China one female giant panda (Aluropoda melanoleuca), captive born at the San Diego Zoo, and owned by the Government of China. This export is part of the approved loan program for the benefit of the survival of the species through scientific research as outlined in Zoological Society of San Diego's original import permit.

Applicant: Hawthorn Corporation, Grayslake, IL, PRT-068234, 068235, 068236, 068237, 068238, 068239, 068240, 068241, 068242, 068243, 068244.

The applicant requests permits to export, re-export, and re-import captive born tigers (Panthera tigris) to worldwide locations for the purpose of enhancement of the species through conservation education. The permit numbers and animals are: 068234—Ashora, 068235—Karma, 068236—Krisma, 068237—Spartacus, 068238—Dimitrios, 068239—Sharm, 068240—Jeeva, 068241—Tilac, 068242—Khan, 068243—Semran, 068244—Chandni. This notification covers activities to be conducted by the applicant over a three-year period and the import of any potential progeny born while overseas.

Applicant: Steve Martin's Working Wildlife, Frazier Park, CA, PRT-069429, 069439, 069443.

The applicant requests permits to export, re-export, and re-import a captive born Bengal tiger (Panthera tigris tigris) and two captive born leopards (Panthera pardus) to worldwide locations for the purpose of enhancement of the species through conservation education. The permit numbers and animals are: tiger/Sasha—069439, leopards are Ivory (Irving)—069429, and Crystal—069443. This notification covers activities to be conducted by the applicant over a three-year period and the import of any potential progeny born while overseas.

Endangered Marine Mammals and Marine Mammals

The public is invited to comment on the following application(s) for a permit to conduct certain activities with endangered marine mammals and/or marine mammals. The application(s) was/were submitted to satisfy requirements of the Endangered Species Act of 1973, as amended (16 U.S.C. 1531, et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: Iskande L.V. Larkin, University of Florida, Gainesville, FL, PRT-038448.

The applicant requests an amendment and extension to her permit for scientific research to study the reproductive physiology and indicators of stress in Florida manatees (Trichechus manatus) by taking behavioral data and urine, fecal, blood, and vaginal smear samples from 10 captive-held females and 5 wild females that will be identified by the USFWS, Jacksonville, FL, Fish and Wildlife Office. This notification covers activities to be conducted by the applicant until 12/31/2005.

Applicant: U.S. Geological Survey/Alaska Science Center, Anchorage, AK, PRT-740507.

The applicant requests an amendment of their permit to authorize additional scientific research to study the long-term effects of hydrocarbon exposure on sea otters (Enhydra lutris kenyoni) through whisker growth on up to 20 wild animals per year. This notification covers activities to be conducted by the applicant until 07/09/2007.

Concurrent with the publication of this notice in the Federal Register, the Division of Management Authority is forwarding copies of the above applications to the Marine Mammal Commission and the Committee of Scientific Advisors for their review.

Applicant: Kenneth Harrison, Salem, OR, PRT-070362.

The applicant requests a permit to import a polar bear (Ursus maritimus) sport hunted from the Northern Beaufort Sea polar bear population in Canada for personal use.

Applicant: Raymond Young, Cameron, WV, PRT-070363.

The applicant requests a permit to import a polar bear (Ursus maritimus) sport hunted from the Lancaster Sound polar bear population in Canada for personal use.

The U.S. Fish and Wildlife Service has information collection approval from OMB through March 31, 2004, OMB Control Number 1018-0093. Federal Agencies may not conduct or sponsor and a person is not required to respond to a collection of information unless it displays a current valid OMB control number.

Dated: April 11, 2003.
Charles S. Hamilton,
Senior Permit Biologist, Branch of Permits, Division of Management Authority.

[FR Doc. 03-10118 Filed 4-23-03; 8:45 am]

BILLING CODE 4310-55-P